DEPARTMENT OF ENERGY

Federal Energy Regulatory Commission

[Project No. 2188-084]

PPL Montana, LLC; Notice Rejecting Request for Rehearing

August 9, 2002.

By order issued June 11, 2002, the Commission approved a Comprehensive Recreation Plan filed by the licensee for the Missouri-Madision Project No. 2188, consisting of nine developments located on the Madison and Missouri Rivers in Gallatin, Madison, Lewis and Clark, and Cascade Counties, in southwestern Montana. A timely request for rehearing was filed by Stephen M. Ryberg.

Under section 313(a) of the Federal Power Act, 16 USC 825l(a), a request for rehearing may be filed only by a party to the proceeding. In order for Stephen M. Ryberg, to be a party to this proceeding, he must have filed a motion to intervene pursuant to Rule 214 of the Rules of Practice and Procedure, 18 CFR 385.214. Because Mr. Ryberg did not file a motion to intervene, he is not a party, and the rehearing request must be rejected.

This notice constitutes final agency action. Requests for rehearing by the Commission of this rejection notice must be filed within 30 days of the date of issuance of this notice, pursuant to 18 CFR 385.713.

Linwood A. Watson, Jr.,
Deputy Secretary.

[FR Doc. 02-20732 Filed 8-14-02; 8:45 am]

BILLING CODE 6717-01-P